DEPARTMENT OF TRANSPORTATION

National Highway Traffic Safety Administration

[Docket No. NHTSA-2006-26735]

Federal Motor Vehicle Safety Standards; Child Restraint Systems; Child Restraint Anchorage Systems; Child Restraint Use Survey—LATCH Use and Misuse

AGENCY: National Highway Traffic Safety Administration (NHTSA), Department of Transportation.

ACTION: Request for comments on report.

SUMMARY: This notice announces NHTSA's publication of a report reviewing and evaluating its existing Safety Standard 213, Child Restraint Systems, and Safety Standard 225, Child Restraint Anchorage Systems. The reports' title is: Child Restraint Use Survey—LATCH Use and Misuse.

DATES: Comments must be received no later than May 4, 2007.

ADDRESSES: Report: The report is available for viewing on line in PDF format at the Docket Management System (DMS) Web page of the Department of Transportation, http://dms.dot.gov. Click on “Simple Search”; type in the five-digit Docket number shown at the beginning of this Notice (26735) and click on “Search”; that brings up a list of every item in the docket, starting with a copy of this Federal Register notice (item NHTSA-2006-26735-1) and a copy of the report in PDF format (item NHTSA-2006-26735-2).

Comments: You may submit comments [identified by DOT DMS Docket Number NHTSA-2006-26735] by any of the following methods:

• Web Site: http://dms.dot.gov. Follow the instructions for submitting comments on the DOT electronic docket site.

• Fax: 1-202-493-2251.

• Mail: Docket Management Facility; U.S. Department of Transportation, 400 Seventh Street, SW., Nassif Building, Room PL-401, Washington, DC 20590-001.

• Hand Delivery: Room PL-401 on the plaza level of the Nassif Building, 400 Seventh Street, SW., Washington, DC, between 9 a.m. and 5 p.m., Monday through Friday, except Federal holidays.

You may call Docket Management at 202-366-9324 and visit the Docket from 10 a.m. to 5 p.m., Monday through Friday.

FOR FURTHER INFORMATION CONTACT: Charlene Doyle, Evaluation Division, NPO-131, National Center for Statistics and Analysis, National Highway Traffic Safety Administration, Room 5208, 400 Seventh Street, SW., Washington, DC 20590. Telephone: 202-366-1276. FAX: 202-366-2559. E-mail: Charlene.Doyle@dot.gov.

SUPPLEMENTARY INFORMATION: NHTSA conducted a survey from April to October 2005 to collect information about the types of restraint systems that were being used to keep children safe while riding in passenger vehicles. In particular, NHTSA was interested in whether drivers with Lower Anchors and Tethers for CHildren (LATCH)-equipped vehicles were using LATCH to secure their child safety seats to the vehicle, and if so, were these seats properly installed. Safety Standard 213, Child Restraint Systems, (49 CFR 571.213) was amended and Safety Standard 225, Child Restraint Anchorage Systems (49 CFR 571.225) was established effective September 1, 1999 (64 FR 10786). Safety Standard 213 required upper tether anchorages and lower attachment anchors to be phased into the back seats of nearly all new passenger vehicles effective September 1, 2002, and Safety Standard 225 required upper tethers and lower attachments on all child safety seats by the same date.

In the survey, the make/model and the type of restraint installed in each seating position were recorded for each of the vehicles; demographic characteristics and the type of restraint system were collected for each occupant. In addition, information was gathered about the drivers' knowledge of booster seats and LATCH, along with their opinions on how easy it was to use LATCH.

A key finding of the survey was that 55 percent of child safety seats, located in a seating position equipped with an upper anchor, were attached to the vehicle using an upper tether. Other findings include: (1) In 13 percent of the observations, the child safety seat was placed in a seat position in the vehicle not equipped with lower anchors—the seat belt was used to secure the child safety seat to the vehicle. (2) Among the 87 percent who do place the child safety seat at a position equipped with lower anchors, 60 percent use the lower attachments to secure the child safety seat to the vehicle. (3) 81 percent of upper tether users and 74 percent of lower attachments users said upper tether and/or lower attachments were easy to use. (4) 75 percent preferred lower attachments over seat belts of those with experience using both lower attachments and seat belts. (5) 61 percent of upper tether nonusers and 55 percent of lower attachments nonusers cited their lack of knowledge—not knowing what they were, that they were available in the vehicle, the importance of using them, or how to properly use them—as the reason for not using them.

How can I influence NHTSA's thinking on this subject?

NHTSA welcomes public review of the report and invites reviewers to submit comments about the data and the statistical methods used in the analyses. NHTSA will submit to the Docket a response to the comments and, if appropriate, additional analyses that supplement or revise the report.

How do I prepare and submit comments?

Your comments must be written and in English. To ensure that your comments are correctly filed in the Docket, please include the Docket number of this document (NHTSA-2006-26735) in your comments.

Your primary comments must not be more than 15 pages long (49 CFR 553.21). However, you may attach additional documents to your primary comments. There is no limit on the length of the attachments.

Please send two paper copies of your comments to Docket Management, submit them electronically, or fax them. The mailing address is U.S. Department of Transportation Docket Management, Room PL-401, 400 Seventh Street, SW., Washington, DC 20590. If you submit your comments electronically, log onto the Dockets Management System Web site at http://dms.dot.gov and click on “Help” to obtain instructions. The fax number is 1-202-493-2251.

We also request, but do not require you to send a copy to Charlene Doyle, Evaluation Division, NPO-131, National Highway Traffic Safety Administration, Room 5208, 400 Seventh Street, SW., Washington, DC 20590 (alternatively, FAX to 202-366-2559 or e-mail to Charlene.Doyle@dot.gov). She can check if your comments have been received at the Docket and can expedite their review by NHTSA.

How can I be sure that my comments were received?

If you wish Docket Management to notify you upon its receipt of your comments, enclose a self-addressed, stamped postcard in the envelope containing your comments. Upon receiving your comments, Docket Management will return the postcard by mail.

How do I submit confidential business information?

If you wish to submit any information under a claim of confidentiality, send three copies of your complete submission, including the information you claim to be confidential business information, to the Chief Counsel, NCC-01, National Highway Traffic Safety Administration, Room 5219, 400 Seventh Street, SW., Washington, DC 20590. Include a cover letter supplying the information specified in our confidential business information regulation (49 CFR part 512).

In addition, send two copies from which you have deleted the claimed confidential business information to Docket Management, Room PL-401, 400 Seventh Street, SW., Washington, DC 20590, or submit them electronically.

Will the agency consider late comments?

In our response, we will consider all comments that Docket Management receives before the close of business on the comment closing date indicated above under DATES. To the extent possible, we will also consider comments that Docket Management receives after that date.

Please note that even after the comment closing date, we will continue to file relevant information in the Docket as it becomes available. Further, some people may submit late comments. Accordingly, we recommend that you periodically check the Docket for new material.

How can I read the comments submitted by other people?

You may read the comments by visiting Docket Management in person at Room PL-401, 400 Seventh Street, SW., Washington, DC from 10 a.m. to 5 p.m., Monday through Friday.

You may also see the comments on the Internet by taking the following steps:

A. Go to the Docket Management System (DMS) Web page of the Department of Transportation (http://dms.dot.gov).

B. On that page, click on “Simple Search.”

C. On the next page (http://dms.dot.gov/search/searchFormSimple.cfm/) type in the five-digit Docket number shown at the beginning of this Notice (26735). Click on “Search.”

D. On the next page, which contains Docket summary information for the Docket you selected, click on the desired comments. You may also download the comments.

Authority: 49 U.S.C. 30111, 30168; delegation of authority at 49 CFR 1.50 and 501.8.

James F. Simons,
Director, Office of Regulatory Analysis and Evaluation.

[FR Doc. E6-22529 Filed 1-3-07; 8:45 am]

BILLING CODE 4910-59-P